NUCLEAR REGULATORY COMMISSION

Sunshine Notice

AGENCY Nuclear Regulatory Commission.

DATES: Weeks of March 3, 10, 17, 24, 31, April 7, 2003.

PLACE: Commissioners' Conference Room, 11555 Rockville Pike, Rockville, Maryland.

Status: Public and Closed.

Matters to be considered:

Week of March 3, 2003

Monday, March 3, 2003

10 a.m.—Briefing on Status of Office of Nuclear Material Safety and Safeguards (NMSS) Programs—Waster Safety (Public Meeting) (Contact: Claudia Seelig, 301-415-7243).

This meeting will be webcast live at the Web address— www.nrc.gov.

2 p.m. Discussion of Security Issues (Closed—Ex. 1)

Week of March 10, 2003—Tentative

There are no meetings scheduled for the Week of March 10, 2003.

Week of March 17, 2003—Tentative

Thursday, March 20, 2003

10 a.m.—Briefing on Status of Office of Nuclear Security and Incident Response (NSIR) Programs, Performance, and Plans (Closed—Ex. 1)

2 p.m.—Discussion of Management Issues (Closed—Ex. 2)

Week of March 24, 2003—Tentative

Thursday, March 27, 2003

10 a.m.—Briefing on Status of Office of Nuclear Regulatory Research (RES) Programs, Performance, and Plans

This meeting will be webcast live at the Web address— www.nrc.gov.

Week of March 31, 2003—Tentative

There are no meetings scheduled for the Week of March 31, 2003.

Week of April 7, 2003—Tentative

Friday, April 11, 2003

9 a.m.—Meeting with Advisory Committee on Reactor Safeguards (ACRS) (Public Meeting) (Contact: John Larkins, 301-415-7360)

This meeting will be webcast live at the Web address— www.nrc.gov.

12:30 p.m.—Discussion of Management Issues (Closed—Ex. 2)

_______

* The schedule for Commission meetings is subject to change on short notice. To verify the status of meetings call (recording)—(301) 415-1292. Contact person for more information: David Louis Gamberoni (301) 415-1651.

The NRC Commission Meeting Schedule can be found on the Internet at: www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: February 27, 2003.
David Louis Gamberoni,
Technical Coordinator, Office of the Secretary.

[FR Doc. 03-5167 Filed 2-28-03; 2:08 pm]

BILLING CODE 7590-01-M